MILLENNIUM CHALLENGE CORPORATION

[MCC FR 16-07]

Notice of Quarterly Report (October 1, 2013—December 31, 2014)

AGENCY: Millennium Challenge Corporation.

ACTION: Notice.

SUMMARY: The Millennium Challenge Corporation (MCC) is reporting for the fiscal year (FY) quarters October 1, 2013 to December 31, 2014, on assistance provided under section 605 of the Millennium Challenge Act of 2003 (22 U.S.C. 7701 et seq.), as amended (the Act), and on transfers or allocations of funds to other federal agencies under section 619(b) of the Act. The following report will be made available to the public by publication in the Federal Register and on the Internet Web site of the MCC (www.mcc.gov) in accordance with section 612(b) of the Act.

Dated: October 5, 2016.
Sarah E. Fandell,
VP/General Counsel and Corporate Secretary, Millennium Challenge Corporation.

As used in MCC's disclosures under section 605 of the Act:

• “Total Obligation” for listed Compacts includes both “Compact Implementation Funding” under section 609(g) of the Act as well as funding under section 605 of the Act.

• “Disbursements” are cash outlays rather than expenditures.

• “Measures” are the same Key Performance Indicators that MCC reports each quarter. The Key Performance Indicators may change over time to more accurately reflect compact implementation progress. The unit for these measures is “a number of” unless otherwise indicated.

• “Program Administration and Control” funds are used to pay items such as salaries, rent, and the cost of office equipment, as well as audit and oversight agent fees.

• “Pending Subsequent Reports” amounts represent disbursements made to the Compact permitted account that will be allocated to individual projects in subsequent quarters and reported as such in subsequent quarterly reports. The “Cumulative Disbursements” amount for “Pending Subsequent Reports” represents the balance of such outlays remaining at the end of the reporting period.

• Closed Compacts do not have any quarterly disbursements; however, they are included in the report if deobligations took place during the reporting period. Closed Compacts include: Armenia, Benin I, Burkina Faso, Cabo Verde I, El Salvador I, Georgia I, Ghana I, Honduras, Lesotho I, Madagascar, Mali, Mongolia I, Morocco I, Mozambique, Namibia, Nicaragua, Tanzania and Vanuatu.

• Unless otherwise indicated, all programs and projects were solicited.

605 Assistance—Disbursements
[In United States dollars]
Entity provided assistance | Program/project name | Total obligation | FY 2014 Quarter 1 | FY 2014 Quarter 2 | FY 2014 Quarter 3 | FY 2014 Quarter 4 | FY 2015 Quarter 1 | Cumulative disbursements
Burkina Faso | Agriculture Project | 141,510,059 | 11,393,735 | 9,790,338 | 15,405,386 | 8,402,118 | 3,324,525 | 140,420,941
| Bright 2 School Project | 26,840,570 | 0 | 0 | 0 | 0 | 0 | 26,840,570
| Land Tenure Project | 58,434,615 | 3,975,944 | 5,654,577 | 7,801,917 | 9,865,824 | 3,447,221 | 58,244,614
| Monitoring and Evaluation | 7,880,000 | 424,223 | 242,078 | 67,134 | 437,447 | 191,644 | 4,669,395
| Pending Subsequent Report | 0 | −507,539 | 484,451 | 453,947 | −754,421 | −180,104 | 363,539
| Program Administration and Control | 49,758,545 | 2,404,048 | 1,718,737 | 2,052,781 | 2,175,099 | 2,480,361 | 48,345,809
| Roads Project | 194,530,681 | 13,041,011 | 24,609,125 | 31,397,256 | 29,573,406 | 17,544,857 | 193,891,857
| Total Burkina Faso | 478,954,470 | 30,731,422 | 42,499,307 | 57,178,420 | 49,699,473 | 26,808,504 | 472,776,725
Cabo Verde II | Land Management For Investment Projects | 17,260,000 | 615,975 | 559,468 | 333,731 | 490,929 | 259,147 | 3,268,991
| Monitoring and Evaluation | 1,390,000 | 566 | −1,481 | 10,220 | 11,150 | 10,735 | 36,765
| Pending Subsequent Report | 0 | 69,969 | −62,154 | 22,752 | −11,104 | 6,032 | 25,495
| Program Administration and Control | 7,850,000 | 258,835 | 349,255 | 320,156 | 343,206 | 270,631 | 2,841,607
| Water, Sanitation and Hygiene Project | 39,730,000 | 501,339 | 200,358 | 678,551 | 898,674 | 1,267,782 | 4,050,504
| Total Cabo Verde II | 66,230,000 | 1,446,684 | 1,045,446 | 1,365,409 | 1,732,856 | 1,814,326 | 10,223,361
El Salvador II | Business Development Services | 3,300,000 | 0 | 0 | 0 | 0 | 0 | 0
| Human Capital Project | 900,000 | 0 | 0 | 0 | 0 | 0 | 0
| Infrastructure Project | 1,500,000 | 0 | 0 | 0 | 0 | 0 | 0
| Monitoring and Evaluation | 400,000 | 0 | 0 | 0 | 0 | 0 | 0
| Pending Subsequent Report | 0 | 0 | 0 | 0 | 0 | 0 | 0
| Program Administration and Control | 3,900,000 | 0 | 0 | 0 | 0 | 0 | 0
| Total El Salvador II | 10,000,000 | 0 | 0 | 0 | 0 | 0 | 0
Georgia II | Education Project | 76,500,000 | 44,290 | 159,933 | 140,131 | 1,294 | 331,945 | 677,594
| Monitoring and Evaluation | 3,500,000 | 0 | 0 | 0 | 0 | 0 | 0
| Pending Subsequent Report | 0 | 209,055 | −77,780 | 177,616 | 51,163 | −320,798 | 39,256
| Program Administration and Control | 14,000,000 | 505,624 | 407,151 | 334,171 | 391,417 | 736,270 | 2,374,633
| Tertiary Education Project | 30,000,000 | 431,731 | 388,954 | 199,789 | 1,463,627 | 1,532,985 | 4,017,085
| Vocational Education Project | 16,000,000 | 0 | 0 | 0 | 0 | 69,300 | 69,300
| Total Georgia II | 140,000,000 | 1,190,700 | 878,258 | 851,707 | 1,907,501 | 2,349,702 | 7,177,868
Ghana | Administrative | 0 | 0 | 0 | 0 | 0 | 0 | 0
| Agriculture Project | 188,731,530 | −407,393 | 0 | 407,393 | −180,293 | 0 | 188,731,530
| Infrastructure Project | 0 | 0 | 0 | 0 | 0 | 0 | 0
| Monitoring and Evaluation | 6,941,811 | 0 | 0 | 0 | 0 | 0 | 6,941,811
| Pending Subsequent Report | 0 | 3,700,000 | 0 | −3,700,000 | 0 | 0 | 0
| Program Administration and Control | 36,874,551 | 0 | 0 | 0 | 1 | 0 | 36,874,550
| Rural Development Project | 76,030,565 | 0 | 0 | 0 | 127,291 | 0 | 76,030,565
| Transportation Project | 227,710,512 | −3,292,608 | 0 | 3,292,608 | 53,000 | 0 | 227,710,512
| Total Ghana | 536,288,969 | 0 | 0 | 0 | 0 | 0 | 536,288,968
Ghana II | Access to Electricity Project | 700,000 | 0 | 0 | 0 | 0 | 0 | 0
| Energy Efficiency and Demand Side Management Project | 0 | 0 | 0 | 0 | 0 | 0 | 0
| Financial and Operational Turnaround (Electricity Company of Ghana 1) | 7,600,800 | 0 | 0 | 0 | 0 | 0 | 0
| Financial and Operational Turnaround (Northern Electricity Distribution Company) | 3,529,000 | 0 | 0 | 0 | 0 | 0 | 0
| Financial and Operational Turnaround (Electricity Company of Ghana 2) | 0 | 0 | 0 | 0 | 0 | 0 | 0
| Monitoring and Evaluation | 1,510,000 | 0 | 0 | 0 | 0 | 0 | 0
| Pending Subsequent Report | 0 | 0 | 0 | 0 | 0 | 0 | 0
| Power Generation Sector Improvement Project | 4,854,800 | 0 | 0 | 0 | 0 | 0 | 0
| Program Administration and Control | 7,455,400 | 0 | 0 | 0 | 0 | 0 | 0
| Regulatory Strengthening and Capacity Building Project | 3,250,000 | 0 | 0 | 0 | 0 | 0 | 0
| Total Ghana II | 28,900,000 | 0 | 0 | 0 | 0 | 0 | 0
Indonesia | Community Nutrition Project | 129,500,000 | 5,335 | 36,978 | 181,792 | 253,944 | 11,822,595 | 34,759,317
| Green Prosperity Project | 332,500,000 | 34,962 | 62,580 | 66,609 | 141,356 | 777,506 | 1,182,494
| Monitoring and Evaluation | 12,200,000 | 0 | 0 | 0 | 0 | 720,664 | 720,664
| Pending Subsequent Report | 0 | 317,285 | −120,503 | 377,840 | −174,359 | 256,222 | 729,754
| Procurement Modernization Project | 50,000,000 | 351,912 | 341,260 | 471,128 | 816,074 | 1,925,931 | 4,009,914
| Program Administration and Control | 75,800,000 | 1,402,143 | 1,512,095 | 1,954,049 | 2,499,064 | 2,322,534 | 13,595,118
| Total Indonesia | 600,000,000 | 2,111,637 | 1,832,410 | 3,051,419 | 3,536,080 | 17,825,452 | 54,997,260
Jordan | Expansion of Wastewater Treatment Capacity | 97,120,950 | 15,128,511 | 11,768,335 | 940,143 | 9,282,359 | 1,248,335 | 76,116,031
| Monitoring and Evaluation | 2,809,894 | 21,610 | 28,847 | 219,805 | 21,662 | 21,675 | 375,783
| Pending Subsequent Report | 0 | −35,119 | 4,053 | −5,097 | 23,043 | 3,021 | 34,447
| Program Administration and Control | 19,650,805 | 386,135 | 467,561 | 429,410 | 490,247 | 575,135 | 4,326,590
| Wastewater Collection | 66,989,225 | 3,532,261 | 2,768,093 | 3,419,241 | 5,502,460 | 4,992,258 | 32,752,377
| Water Network Restructuring and Rehabilitation | 88,529,127 | 3,669,481 | 4,160,537 | 2,180,324 | 3,954,905 | 6,103,494 | 24,484,800
| Total Jordan | 275,100,000 | 22,702,880 | 19,197,425 | 7,183,826 | 19,274,676 | 12,943,918 | 138,090,029
Lesotho | Capacity Building | 0 | 0 | 0 | 0 | 0 | 0 | 0
| Civil/Legal Sector Support | 0 | 0 | 0 | 0 | 0 | 0 | 0
| Health Sector Project | 143,650,195 | 15,919,722 | −753,987 | 23,881 | 0 | 0 | 143,650,195
| Land Tenure Project | 0 | 0 | 0 | 0 | 0 | 0 | 0
| Monitoring and Evaluation | 5,500,728 | 256,974 | 181,013 | 0 | 0 | 0 | 5,500,728
| Pending Subsequent Report | 0 | −199,501 | 1 | −12,942 | 0 | 0 | 0
| Private Sector Development Project | 24,162,433 | 1,986,028 | 0 | 0 | 0 | 0 | 24,162,433
| Procurement and Administration | 0 | 0 | 0 | 0 | 0 | 0 | 0
| Program Administration and Control | 34,918,925 | 2,188,853 | 101,302 | −10,939 | 0 | 0 | 34,918,925
| Water Sector Project | 149,813,612 | 14,004,878 | −1 | 0 | 0 | 0 | 149,813,612
| Total Lesotho | 358,045,892 | 34,156,953 | −471,671 | 0 | 0 | 0 | 358,045,892
Malawi | Gender Integration Project | 0 | 0 | 0 | 0 | 0 | 0 | 0
| Monitoring and Evaluation | 6,960,100 | 35,880 | 143,520 | 0 | 0 | 1,131 | 186,464
| Natural Resource Management Project | 28,026,000 | 213,866 | 91,018 | 379,585 | 300,685 | 10,819 | 995,972
| Pending Subsequent Report | 0 | 248,392 | −180,088 | −11,041 | 45,236 | −6,728 | 250,859
| Power Project | 255,648,800 | 572,012 | 134,447 | 1,035,243 | 2,253,940 | 1,735,978 | 5,731,621
| Power Sector Reform Project | 25,553,400 | 221,705 | 249,385 | 724,681 | 718,116 | 1,335,602 | 3,472,531
| Program Administration and Control | 34,511,700 | 1,027,028 | 1,383,181 | 2,356,867 | 1,627,106 | 1,629,994 | 9,346,909
| Total Malawi | 350,700,000 | 2,318,884 | 1,821,463 | 4,485,335 | 4,945,082 | 4,706,796 | 19,984,357
Mali | Alatona Irrigation Project | 252,895,691 | 0 | 0 | 0 | 0 | 0 | 252,895,69
| Bamako-Senou Airport Improvement Project | 143,371,915 | 0 | 0 | 0 | −31,476 | 0 | 143,371,915
| Industrial Park Project | 2,637,472 | 0 | 0 | 0 | 0 | 0 | 2,637,472
| Monitoring and Evaluation | 1,688,026 | 0 | 0 | 0 | 0 | 0 | 1,688,027
| Pending Subsequent Report | 0 | 0 | 0 | 0 | 0 | 0 | 0
| Program Administration and Control | 35,003,642 | 0 | 0 | 0 | 0 | 0 | 35,003,642
| Total Mali | 435,596,747 | 0 | 0 | 0 | −31,476 | 0 | 435,596,747
Moldova | Monitoring and Evaluation | 3,538,930 | 213,834 | 63,212 | 382,519 | 220,343 | 14,623 | 1,634,272
| Pending Subsequent Report | 0 | −118,059 | 199,517 | 810,446 | −293,684 | −594,765 | 134,081
| Program Administration and Control | 23,247,668 | 1,223,387 | 813,895 | 832,821 | 836,381 | 905,775 | 13,680,202
| Road Rehabilitation Project | 112,390,000 | 20,756,036 | 2,755,131 | 11,349,069 | 14,836,137 | 21,216,346 | 101,421,448
| Transition To High Value Agriculture Project | 122,823,402 | 9,798,457 | 4,753,661 | 15,362,042 | 10,226,080 | 12,254,189 | 72,924,459
| Total Moldova | 262,000,000 | 31,873,654 | 8,585,415 | 28,736,897 | 25,825,256 | 33,796,167 | 189,794,463
Mongolia | Energy and Environmental Project | 40,420,819 | 275,302 | 14,282 | 17,246 | 0 | 0 | 40,420,819
| Health Project | 41,873,775 | 3,261,083 | 18,608 | 0 | 0 | 0 | 41,873,776
| Monitoring and Evaluation | 5,085,246 | 392,984 | 0 | 0 | 0 | 0 | 5,085,246
| Pending Subsequent Report | 0 | −615,790 | −57,984 | 0 | 0 | 0 | 0
| Program Administration and Control | 28,610,318 | 1,328,261 | 662,064 | 149,507 | −74,754 | 0 | 28,610,318
| Property Rights Project | 28,543,830 | 318,125 | 20,212 | 0 | 0 | 0 | 28,543,830
| Rail Project | 369,560 | 0 | 0 | 0 | 0 | 0 | 369,560
| Roads Project | 74,775,867 | 6,147,460 | 4,236 | 0 | 0 | 0 | 74,775,867
| Vocational Education Project | 49,322,727 | 111,456 | 17,530 | 0 | 0 | 0 | 49,322,727
| Total Mongolia | 269,002,143 | 11,218,881 | 678,948 | 166,754 | −74,754 | 0 | 269,002,143
Morocco | Artisan and Fez Medina Project | 84,019,666 | 15,726,838 | −323,055 | 329,816 | 0 | 0 | 84,019,666
| Enterprise Support Project | 15,126,518 | 3,211 | 49 | 0 | 0 | 0 | 15,126,518
| Financial Accountability | 0 | 0 | 0 | 0 | 0 | 0 | 0
| Financial Services Project | 42,817,020 | 1,928,094 | 0 | 0 | 0 | 0 | 42,817,020
| Fruit Tree Productivity Project | 324,163,440 | 30,388,407 | 1 | 0 | 0 | 0 | 323,369,991
| Monitoring and Evaluation | 16,255,526 | 2,789,915 | 0 | 0 | 0 | 0 | 16,255,526
| Pending Subsequent Report | 0 | −1,053,506 | −136,770 | −46,373 | 0 | 0 | 0
| Program Administration and Control | 56,500,517 | 3,891,292 | −18 | 26,022 | 0 | 0 | 56,500,517
| Rural Development Project | 0 | 0 | 0 | 0 | 0 | 0 | 0
| Small-Scale Fisheries Project | 111,281,204 | 18,507,220 | 310,950 | −309,465 | 0 | 0 | 111,281,204
| Transportation Project | 0 | 0 | 0 | 0 | 0 | 0 | 0
| Total Morocco | 650,163,890 | 72,181,470 | −148,843 | 0 | 0 | 0 | 649,370,442
Mozambique | Farmer Income Support Project | 18,857,349 | 1,855,435 | 19,893 | 0 | 0 | 0 | 18,857,349
| Land Tenure Project | 39,466,421 | 3,668,233 | −31,999 | 0 | 0 | 0 | 39,466,421
| Monitoring and Evaluation | 4,073,077 | 851,699 | 21,760 | 0 | 0 | 0 | 4,073,077
| Pending Subsequent Report | 0 | −2,837,741 | −3,115,537 | −46,329 | 0 | 0 | 0
| Program Administration and Control | 48,483,703 | 6,187,513 | 1,870,307 | 46,329 | 706,997 | 0 | 48,483,703
| Rehabilitation/Construction Of Roads Project | 136,802,301 | 17,844,298 | 95,729 | 0 | 0 | 0 | 136,802,301
| Water Supply and Sanitation Project | 200,221,661 | 23,300,256 | 2,150,510 | 0 | 0 | 0 | 200,221,661
| Total Mozambique | 447,904,512 | 50,869,694 | 1,010,662 | 0 | 706,997 | 0 | 447,904,512
Namibia | Agriculture Project | 51,439,139 | 3,092,659 | 4,301,409 | 3,858,573 | 2,064,357 | 2,237,463 | 50,029,275
| Education Project | 141,886,916 | 12,286,634 | 8,956,394 | 9,803,025 | 13,032,538 | 4,370,143 | 137,237,213
| Monitoring and Evaluation | 6,886,182 | 84,364 | 290,198 | 632,806 | 672,659 | 773,743 | 6,415,390
| Pending Subsequent Report | 0 | 1,676,086 | −516,092 | −7,268,389 | 310,960 | 646,860 | 3,716,700
| Program Administration and Control | 35,789,383 | 1,665,196 | 1,235,533 | 1,423,372 | 1,598,913 | 3,994,297 | 33,365,598
| Rural Development Project | 0 | 0 | 0 | 0 | 0 | 0 | 0
| Tourism Project | 68,475,842 | 4,619,357 | 5,669,962 | 11,283,451 | 10,496,386 | 6,288,359 | 65,464,315
| Total Namibia | 304,477,463 | 23,424,296 | 19,937,405 | 19,732,839 | 28,175,814 | 18,310,864 | 296,228,491
Philippines | Community Development Grants Project | 120,000,000 | 4,129,561 | 7,696,771 | 7,155,121 | 7,748,991 | 7,125,483 | 75,901,515
| KALAHI-CIDSS Project | 0 | 0 | 0 | 0 | 0 | 0 | 0
| Monitoring and Evaluation | 8,207,000 | 173,308 | 135,260 | 99,022 | 139,294 | 168,264 | 2,027,532
| Pending Subsequent Report | 0 | 2,111,447 | 21,877 | −1,617,650 | 911,404 | −1,092,558 | 5,058,482
| Program Administration and Control | 36,910,000 | 1,060,649 | 1,075,900 | 1,114,616 | 1,113,703 | 1,468,306 | 14,398,261
| Revenue Administration Reform Project | 54,300,000 | 55,909 | 1,125,801 | 2,645,058 | 875,506 | 1,116,814 | 11,666,358
| Roads Project | 214,493,000 | 7,517,140 | 3,797,637 | 8,678,866 | 16,632,689 | 10,530,412 | 95,566,371
| Total Philippines | 433,910,000 | 15,048,013 | 13,853,246 | 18,075,033 | 27,421,587 | 19,316,721 | 204,618,519
Senegal | Demand Assessment | 0 | 0 | 0 | 0 | 0 | 0 | 0
| Irrigation | 170,341,171 | 8,082,655 | 16,444,544 | 19,022,475 | 12,166,091 | 15,456,116 | 100,655,919
| Land Tenure Project | 0 | 0 | 0 | 0 | 0 | 0 | 0
| Monitoring and Evaluation | 3,757,500 | 16,716 | 28,420 | 24,849 | 41,683 | 128,216 | 774,411
| Pending Subsequent Report | 0 | −719,147 | 166,031 | −535,530 | 249,080 | 22,606 | 568,061
| Pre-Feasibility and Feasibility Analysis | 0 | 0 | 0 | 0 | 0 | 0 | 0
| Program Administration and Control | 41,188,830 | 1,212,154 | 1,243,739 | 1,768,298 | 1,290,872 | 1,433,630 | 20,493,819
| Roads Project | 324,712,499 | 10,925,884 | 16,542,582 | 25,570,082 | 17,326,600 | 24,658,251 | 135,713,053
| Total Senegal | 540,000,000 | 19,518,262 | 34,425,315 | 45,850,174 | 31,074,326 | 41,698,818 | 258,205,264
Tanzania | Energy Sector Project | 199,461,627 | 22,613,285 | 0 | 0 | 0 | 0 | 199,461,627
| Monitoring and Evaluation | 4,632,363 | 387,554 | 0 | 0 | 0 | 0 | 4,632,363
| Pending Subsequent Report | 0 | 0 | 0 | 0 | 0 | 0 | 0
| Program Administration and Control | 30,480,760 | 1,631,748 | 10,372 | 0 | 0 | 0 | 30,480,760
| Transport Sector Project | 405,402,512 | 44,755,778 | 0 | 0 | 0 | 0 | 405,402,512
| Water Sector Project | 54,568,652 | 5,093,064 | 0 | 0 | 0 | 0 | 54,568,652
| Total Tanzania | 694,545,914 | 74,481,428 | 10,372 | 0 | 0 | 0 | 694,545,914
Zambia | Infrastructure Project | 0 | 0 | 0 | 0 | 0 | 0 | 0
| Monitoring and Evaluation | 5,841,000 | 0 | 6,843 | 1,268 | 0 | 0 | 25,999
| Pending Subsequent Report | 0 | −17,617 | 18,233 | 58,777 | 6,634 | 7,788 | 110,436
| Program Administration and Control | 38,823,951 | 1,716,377 | 1,050,630 | 1,612,473 | 1,673,344 | 1,928,332 | 10,096,838
| Water Supply and Sanitation Project | 8,137,125 | 0 | 0 | −1,324,821 | 0 | 1,205,107 | 8,017,411
| Water Supply, Sanitation and Drainage Project | 301,955,564 | 62,473 | 80,042 | 173,719 | 529,434 | 322,397 | 1,456,503
| Total Zambia | 354,757,640 | 1,761,233 | 1,155,748 | 521,417 | 2,209,413 | 3,463,624 | 19,707,186

605 Assistance—Measures
Country | Objectives | FY 2014: Quarter 1 | FY 2014: Quarter 2 | FY 2014: Quarter 3 | FY 2014: Quarter 4 | FY 2015: Quarter 1
Burkina Faso | Agriculture Development Project Objectives: Expanded productive use of land in order to increase the volume and value of agricultural production in Project Zones | Hectares of new perimeter development in Di Responsible members of Water User Associations trained in the Sourou Farmers trained Farmers who have applied improved practices as a result of training | Hectares of new perimeter development in Di Responsible members of Water User Associations trained in the Sourou Farmers trained Farmers who have applied improved practices as a result of training | Hectares of new perimeter development in Di Responsible members of Water User Associations trained in the Sourou Farmers trained Farmers who have applied improved practices as a result of training | Hectares of new perimeter development in Di Responsible members of Water User Associations trained in the Sourou Farmers trained Farmers who have applied improved practices as a result of training
|  | Local water committees established and operational in the Comoé and Mouhoun | Local water committees established and operational in the Comoé and Mouhoun | Local water committees established and operational in the Comoé and Mouhoun | Local water committees established and operational in the Comoé and Mouhoun
|  | Basin Water Resources Development and Management Master Plan developed and validated | Basin Water Resources Development and Management Master Plan developed and validated | Basin Water Resources Development and Management Master Plan developed and validated | Basin Water Resources Development and Management Master Plan developed and validated
|  | Hectares under improved practices as a result of training | Hectares under improved practices as a result of training | Hectares under improved practices as a result of training | Hectares under improved practices as a result of training
| BRIGHT II School Project Objectives: Increased primary school completion rates for girls | Percent of girls regularly attending (90 percent attendance) BRIGHT II schools Girls promotion rates to next grade in BRIGHT II schools | Percent of girls regularly attending (90 percent attendance) BRIGHT II schools Girls promotion rates to next grade in BRIGHT II schools | Percent of girls regularly attending (90 percent attendance) BRIGHT II schools Girls promotion rates to next grade in BRIGHT II schools | Percent of girls regularly attending (90 percent attendance) BRIGHT II schools Girls promotion rates to next grade in BRIGHT II schools
|  | Percent of girls dropping out of school | Percent of girls dropping out of school | Percent of girls dropping out of school | Percent of girls dropping out of school
|  | Percent of girls passing the annual Primary Certificate exam in BRIGHT II schools | Percent of girls passing the annual Primary Certificate exam in BRIGHT II schools | Percent of girls passing the annual Primary Certificate exam in BRIGHT II schools | Percent of girls passing the annual Primary Certificate exam in BRIGHT II schools
|  | Students enrolled in BRIGHT II schools (both girls and boys) | Students enrolled in BRIGHT II schools (both girls and boys) | Students enrolled in BRIGHT II schools (both girls and boys) | Students enrolled in BRIGHT II schools (both girls and boys)
| Land Tenure Project Objectives: Increased investment in land and rural productivity through improved land tenure security and land management | Stakeholders trained Rural hectares formalized in the new zone of Di, targeted under the Agriculture Development project Land administration offices established or upgraded | Stakeholders trained Rural hectares formalized in the new zone of Di, targeted under the Agriculture Development project Land administration offices established or upgraded | Stakeholders trained Rural hectares formalized in the new zone of Di, targeted under the Agriculture Development project Land administration offices established or upgraded | Stakeholders trained Rural hectares formalized in the new zone of Di, targeted under the Agriculture Development project Land administration offices established or upgraded
|  | Municipal buildings constructed | Municipal buildings constructed | Municipal buildings constructed | Municipal buildings constructed
|  | Rural land possession certificates approved by the local government | Rural and possession certificates approved by the local government | Rural land possession certificates approved by the local government | Rural land possession certificates approved by the local government |
|  | Land conflicts recorded in the 17 communes of phase I of the Rural Land Governance project | Land conflicts recorded in the 17 communes of phase I of the Rural Land Governance project | Land conflicts recorded in the 17 communes of phase I of the Rural Land Governance project | Land conflicts recorded in the 17 communes of phase I of the Rural Land Governance project |
|  | Land resolved in the 17 communes of Phase I of the Rural Land Governance project | Land resolved in the 17 communes of Phase I of the Rural Land Governance project | Land resolved in the 17 communes of Phase I of the Rural Land Governance project | Land resolved in the 17 communes of Phase I of the Rural Land Governance project |
| Roads Project Objectives: Enhanced access to markets through investments in the road network | Periodic road maintenance coverage rate (for all funds) (percent) Kilometers of primary roads completed | Periodic road maintenance coverage rate (for all funds) (percent) Kilometers of primary roads completed | Periodic road maintenance coverage rate (for all funds) (percent) Kilometers of primary roads completed | Periodic road maintenance coverage rate (for all funds) (percent) Kilometers of primary roads completed
|  | Percent disbursed of road construction contracts (primary roads) | Percent disbursed of road construction contracts (primary roads) | Percent disbursed of road construction contracts (primary roads) | Percent disbursed of road construction contracts (primary roads) |
|  | Kilometers of rural roads completed | Kilometers of rural roads completed | Kilometers of rural roads completed | Kilometers of rural roads completed |
|  | Percent disbursed of road construction contracts (rural roads) | Percent disbursed of road construction contracts (rural roads) | Percent disbursed of road construction contracts (rural roads) | Percent disbursed of road construction contracts (rural roads) |
Cabo Verde II | Land Management for Investment Projects Objectives: Increased investments in and value of property; improved ease of doing business; increased investments and value added in tourism; increased employment | Legal and regulatory reforms adopted Field test of “Fieldwork Operations Manual” and methodology completed on Sal Stakeholders receiving formal on-the-job training or technical assistance regarding roles, responsibilities or new technologies | Legal and regulatory reforms adopted Field test of “Fieldwork Operations Manual” and methodology completed on Sal Stakeholders receiving formal on-the-job training or technical assistance regarding roles, responsibilities or new technologies | Legal and regulatory reforms adopted Field test of “Fieldwork Operations Manual” and methodology completed on Sal Stakeholders receiving formal on-the-job training or technical assistance regarding roles, responsibilities or new technologies | Legal and regulatory reforms adopted Field test of “Fieldwork Operations Manual” and methodology completed on Sal Stakeholders receiving formal on-the-job training or technical assistance regarding roles, responsibilities or new technologies | Legal and regulatory reforms adopted. Field test of “Fieldwork Operations Manual” and methodology completed on Sal.
|  |  |  |  |  | Percent of targeted surface area on target island (Sal) incorporated into the Land Management Information and Transaction System (LMITS).
|  |  |  |  |  | Households in intervention island(s) of high tourism investment potential with land rights formalized through project.
|  |  |  |  |  | Parcels corrected or incorporated in land system.
|  |  |  |  |  | Land administration offices established or upgraded.
|  |  |  |  |  | Adoption of “Operations Manual” for the Rights and Boundaries Activity fieldwork in full force and effect.
| Water, Sanitation, and Hygiene Project Objectives: Increased access to improved water and sanitation; reduced household costs for water; reduced incidence of waterborne disease; improved capital accumulation; increase productive government spending | Value of implicit subsidy reduction (U.S. dollars) Operating cost coverage (percent) Service coverage by corporatized utilities (percent) Continuity of service (hours/day) Objective measure of water quality (percent Non-revenue water for Multiple Municipal Utility/utilities (percent) | Value of implicit subsidy reduction (U.S. dollars) Operating cost coverage (percent) Service coverage by corporatized utilities (percent) Continuity of service (hours/day) Objective measure of water quality (percent Non-revenue water for Multiple Municipal Utility/utilities (percent) | Value of implicit subsidy reduction (U.S. dollars) Operating cost coverage (percent) Service coverage by corporatized utilities (percent) Continuity of service (hours/day) Objective measure of water quality (percent Non-revenue water for Multiple Municipal Utility/utilities (percent) | Value of implicit subsidy reduction (U.S. dollars) Operating cost coverage (percent) Service coverage by corporatized utilities (percent) Continuity of service (hours/day) Objective measure of water quality (percent Non-revenue water for Multiple Municipal Utility/utilities (percent) | Value of implicit subsidy reduction (U.S. dollars). Operating cost coverage (percent). Service coverage by corporatized utilities (percent). Continuity of service (hours/day). Objective measure of water quality (percent). Non-revenue water for Multiple Municipal Utility/utilities (percent).
|  | Value of signed water and sanitation construction contracts | Value of signed water and sanitation construction contracts | Value of signed water and sanitation construction contracts | Value of signed water and sanitation construction contracts | Value of signed water and sanitation construction works contracts.
|  | Percent disbursed of water and sanitation construction contracts | Percent disbursed of water and sanitation construction contracts | Percent disbursed of water and sanitation construction contracts | Percent disbursed of water and sanitation construction contracts | Percent disbursed of water and sanitation construction works contracts.
|  | Strategic National Master Plan and Strategic Environmental and Social Assessment approved by appropriate authorities | Strategic National Master Plan and Strategic Environmental and Social Assessment approved by appropriate authorities | Strategic National Master Plan and Strategic Environmental and Social Assessment approved by appropriate authorities | Strategic National Master Plan and Strategic Environmental and Social Assessment approved by appropriate authorities | Strategic National Master Plan and Strategic Environmental and Social Assessment approved by appropriate authorities.
|  | Value of signed water and sanitation feasibility and design contracts | Value of signed water and sanitation feasibility and design contracts | Value of signed water and sanitation feasibility and design contracts | Value of signed water and sanitation feasibility and design contracts | Value of signed water and sanitation feasibility and design contracts.
|  | Percent disbursed of water and sanitation feasibility and design contracts | Percent disbursed of water and sanitation feasibility and design contracts | Percent disbursed of water and sanitation feasibility and design contracts | Percent disbursed of water and sanitation feasibility and design contracts | Percent disbursed of water and sanitation feasibility and design contracts.
|  | Percent disbursed of technical advisory services and training contracts in support of the Water, Sanitation and Hygiene Project | Percent disbursed of technical advisory services and training contracts in support of the Water, Sanitation and Hygiene Project | Percent disbursed of technical advisory services and training contracts in support of the Water, Sanitation and Hygiene Project | Percent disbursed of technical advisory services and training contracts in support of the Water, Sanitation and Hygiene Project | Percent disbursed of technical advisory services and training contracts in support of the Water, Sanitation and Hygiene Project.
|  | Value disbursed of Infrastructure Grant Facility Social Funds for disadvantaged groups and/or poor households | Value disbursed of Infrastructure Grant Facility Social Funds for disadvantaged groups and/or poor households | Value disbursed of Infrastructure Grant Facility Social Funds for disadvantaged groups and/or poor households | Value disbursed of Infrastructure Grant Facility Social Funds for disadvantaged groups and/or poor households | Value disbursed of Infrastructure Grant Facility Social Funds for disadvantaged groups and/or poor households.
|  | Value of all signed technical advisory services and training contracts in support of the Water, Sanitation and Hygiene Project | Value of all signed technical advisory services and training contracts in support of the Water, Sanitation and Hygiene Project
|  |  |  |  |  | Collection Ratio.
|  |  |  |  |  | Multiple municipal utilities staff per 1,000 potable water connections.
El Salvador II | Business Development Services | Measures pending | Measures pending | Measures pending | Measures pending | Measures pending.
| Human Capital Project |  |  |  |  |
| Infrastructure Project |  |  |  |
Georgia II | Education Project | Measures pending | Measures pending | Measures pending | Measures pending | Schools fully rehabilitated.
|  |  |  |  |  | Science labs installed and equipped.
|  |  |  |  |  | Percent disbursed of educational facility construction, rehabilitation, and equipping contracts.
|  |  |  |  |  | School-based professional development facilitators trained.
|  |  |  |  |  | School principals trained.
|  |  |  |  |  | Science, math, English, and information and communication technology teachers trained.
|  |  |  |  |  | Completion of teacher training design framework.
|  |  |  |  |  | International assessments completed
|  |  |  |  |  | Completion of pilot testing of national assessment instruments.
| Vocational Education Project | Measures pending | Measures pending | Measures pending | Measures pending | Students participating in MCC-supported Technical Vocational Education and Training (TVET) programs.
|  |  |  |  |  | Industry co-investment in TVET provision.
|  |  |  |  |  | Date first grant agreement is signed.
|  |  |  |  |  | Total grant outlays.
| Tertiary Education Project | Measures pending | Measures pending | Measures pending | Measures pending | Students enrolled in MCC-supported U.S. bachelor's programs.
|  |  |  |  |  | First cohort of students enter MCC-funded science, technology, engineering and math bachelor's program.
|  |  |  |  |  | Signing of partnership agreement between the Government of Georgia and university partner.
|  |  |  |  |  | Georgian partner university faculty members receiving training from U.S. partner institution.
Ghana II | Access to Electricity Project | Measures pending | Measures pending | Measures pending | Measures pending | Measures pending.
| Energy Efficiency and Demand Side Management Project |  |  |  |  |
| Power Generation Sector Improvement Project |  |  |  |  |
| Regulatory Strengthening and Capacity Building Project |  |  |  |  |
Indonesia | Community Nutrition Project Objectives: Reduce and prevent low birth weight and childhood stunting and malnourishment of children in project areas, and to increase household income through cost savings, productivity growth and higher lifetime earnings | Value of Generasi block grants funded | Value of Generasi block grants funded | Value of Generasi block grants funded | Value of Generasi block grants funded | Value of Generasi block grants funded.
| Service providers trained on infant and young child feeding | Service providers trained on infant and young child feeding | Service providers trained on infant and young child feeding | Service providers trained on infant and young child feeding | Service providers trained on infant and young child feeding | Service providers trained on mother, infant and young child feeding.
| Communications Campaign design complete | Communications Campaign design complete | Communications Campaign design complete | Communications Campaign design complete | Communications Campaign design complete | Date Communications Campaign design complete.
| Micro-nutrient packages delivered (Iron Folic) (millions) | Micro-nutrient packages delivered (Iron Folic) (millions) | Micro-nutrient packages delivered (Iron Folic) (millions) | Micro-nutrient packages delivered (Iron Folic) (millions) | Micro-nutrient packages delivered (Iron Folic) (millions) | Micro-nutrient packages delivered (Iron Folic).
|  | Micro-nutrient packages delivered (Taburia) (millions) | Micro-nutrient packages delivered (Taburia) (millions) | Micro-nutrient packages delivered (Taburia) (millions) | Micro-nutrient packages delivered (Taburia) (millions) | Micro-nutrient packages delivered (Taburia).
|  | Generasi proposals | Generasi proposals | Generasi proposals | Generasi proposals
|  | Generasi facilitators trained on stunting and gender | Generasi facilitators trained on stunting and gender | Generasi facilitators trained on stunting and gender | Generasi facilitators trained on stunting and gender
|  |  |  |  |  | Sanitation triggering events.
|  |  |  |  |  | Service providers trained on growth monitoring.
| Green Prosperity Project Objectives: Increase productivity and reduce reliance on fossil fuels by expanding renewable energy; and Increase productivity and reduce land-based greenhouse gas emissions by improving land use practices and management of natural resources | Signed memoranda of understanding between the Indonesia accountable entity and districts Green Knowledge work plan completed Financial service provider partnerships established (loan agreement) Financial service provider partnerships established (grant partnerships) | Signed memoranda of understanding between the Indonesia accountable entity and districts Green Knowledge work plan completed Financial service provider partnerships established (loan agreement) Financial service provider partnerships established (grant partnerships) | Signed memoranda of understanding between the Indonesia accountable entity and districts Green Knowledge work plan completed Financial service provider partnerships established (loan agreement) Financial service provider partnerships established (grant partnerships) | Signed memoranda of understanding between the Indonesia accountable entity and districts Green Knowledge work plan completed Financial service provider partnerships established (loan agreement) Financial service provider partnerships established (grant partnerships) | Signed memoranda of understanding between the Indonesia accountable entity and districts. Green Knowledge work plan completed.
|  | Financial service provider partnerships established (grant managers) | Financial service provider partnerships established (grant managers) | Financial service provider partnerships established (grant managers) | Financial service provider partnerships established (grant managers)
|  | Project financing approved by the Green Prosperity Finance Facility | Project financing approved by the Green Prosperity Finance Facility | Project financing approved by the Green Prosperity Finance Facility | Project financing approved by the Green Prosperity Finance Facility
|  | Formal district adoption of guidelines for participatory village boundary setting | Formal district adoption of guidelines for participatory village boundary setting | Formal district adoption of guidelines for participatory village boundary setting | Formal district adoption of guidelines for participatory village boundary setting
|  | Financial service provider partnerships established (implementing entity agreements) | Financial service provider partnerships established (implementing entity agreements) | Financial service provider partnerships established (implementing entity agreements) | Financial service provider partnerships established (implementing entity agreements)
|  | Project funds disbursed by the Technical Assistance and Oversight Activity (percent) | Project funds disbursed by the Technical Assistance and Oversight Activity (percent) | Project funds disbursed by the Technical Assistance and Oversight Activity (percent) | Project funds disbursed by the Technical Assistance and Oversight Activity (percent)
|  |  |  |  |  | Hectares targeted for improved practices for sustainable agriculture (including agro-forestry) as a result of Green Prosperity-funded projects and/or partnerships.
|  |  |  |  |  | Hectares targeted for protection through Green Prosperity-funded projects and/or partnerships.
|  |  |  |  |  | Additional capacity of renewable energy planned.
|  |  |  |  |  | Grant agreements approved by Green Prosperity Finance Facility.
|  |  |  |  |  | Villages assisted in participatory boundary setting.
|  |  |  |  |  | District land use, land cover, and permits and licenses inventories created.
|  |  |  |  |  | Proposals that receive project preparation support.
| Procurement Modernization Project Objectives: Achieve significant government expenditure savings on procured goods and services, while assuring their quality satisfies the public need, and to achieve the delivery of public services as planned | Procurement management information system adopted Creation of sustainable procurement policy National Action Plan Framework agreements signed and catalogued Procurement Service Unit staff trained Creation of public private partnership standard bidding documents | Procurement management information system adopted Creation of sustainable procurement policy National Action Plan Framework agreements signed and catalogued Procurement Service Unit staff trained Creation of public private partnership standard bidding documents | Procurement management information system adopted Creation of sustainable procurement policy National Action Plan Framework agreements signed and catalogued Procurement Service Unit staff trained Creation of public private partnership standard bidding documents | Procurement management information system adopted Creation of sustainable procurement policy National Action Plan Framework agreements signed and catalogued Procurement Service Unit staff trained Creation of public private partnership standard bidding documents | Procurement management information system adopted (Phase I). Date the sustainable procurement policy National Action Plan endorsed.
|  |  |  |  |  | Date e-catalogue system established.
|  |  |  |  |  | Mentor visits conducted.
|  |  |  |  |  | Hours of training conducted.
Jordan | Expansion Of Wastewater Treatment Capacity Objectives: Increase the volume of treated wastewater available as a substitute for freshwater in agricultural use | Treated wastewater used in agriculture (as a percent of all water used for irrigation in Northern and Middle Jordan Valley) Value disbursed of construction contracts; MCC contribution | Treated wastewater used in agriculture (as a percent of all water used for irrigation in Northern and Middle Jordan Valley) Value disbursed of construction contracts; MCC contribution | Treated wastewater used in agriculture (as a percent of all water used for irrigation in Northern and Middle Jordan Valley) Value disbursed of construction contracts; MCC contribution | Treated wastewater used in agriculture (as a percent of all water used for irrigation in Northern and Middle Jordan Valley) Value disbursed of construction contracts; MCC contribution | Treated wastewater used in agriculture (as a percent of all water used for irrigation in Northern and Middle Jordan Valley). Value disbursed of construction contracts; MCC contribution.
|  | Total engineering, procurement, and construction costs of As-Samra Expansion | Total engineering, procurement, and construction costs of As-Samra Expansion | Total engineering, procurement, and construction costs of As-Samra Expansion | Total engineering, procurement, and construction costs of As-Samra Expansion | Total engineering, procurement, and construction costs of As-Samra Expansion.
| Wastewater Collection Objectives: Increase access to the wastewater network, increase the volume of wastewater collected and reduce the incidents of sewage overflow | Sewer blockage events; annual Volume of wastewater collected; (millions of cubic meters per year) Residential population connected to the sewer system (percent) | Sewer blockage events; annual Volume of wastewater collected; (millions of cubic meters per year) Residential population connected to the sewer system (percent) | Sewer blockage events; annual Volume of wastewater collected; (millions of cubic meters per year) Residential population connected to the sewer system (percent) | Sewer blockage events; annual Volume of wastewater collected; (millions of cubic meters per year) Residential population connected to the sewer system (percent) | Sewer blockage events; annual. Volume of wastewater collected; (millions of cubic meters per year). Residential population connected to the sewer system (percent).
|  | Expand network (kilometers) | Expand network (kilometers) | Expand network (kilometers) | Expand network (kilometers) | Expand network (kilometers).
|  | Value disbursed of sanitation construction contracts | Value disbursed of sanitation construction contracts | Value disbursed of sanitation construction contracts | Value disbursed of sanitation construction contracts | Value disbursed of sanitation construction contracts.
| Water Network Restructuring and Rehabilitation Objectives: Reduce water losses, improve continuity of water service and improve overall efficiency and use of network water delivery leading to households substituting network water for costly alternatives | Network water consumption per capita (residential and non-residential); liters/capita/day Operating cost coverage—Water Authority Jordan Zarqa Non-Revenue Water (percent) Continuity of Supply time; hours per week Restructured and rehabilitated primary and secondary pipelines (kilometers) | Network water consumption per capita (residential and non-residential); liters/capita/day Operating cost coverage—Water Authority Jordan Zarqa Non-Revenue Water (percent) Continuity of Supply time; hours per week Restructured and rehabilitated primary and secondary pipelines (kilometers) | Network water consumption per capita (residential and non-residential); liters/capita/day Operating cost coverage—Water Authority Jordan Zarqa Non-Revenue Water (percent) Continuity of Supply time; hours per week Restructured and rehabilitated primary and secondary pipelines (kilometers) | Network water consumption per capita (residential and non-residential); liters/capita/day Operating cost coverage—Water Authority Jordan Zarqa Non-Revenue Water (percent) Continuity of Supply time; hours per week Restructured and rehabilitated primary and secondary pipelines (kilometers) | Network water consumption per capita (residential and non-residential); liters/capita/day. Operating cost coverage—Water Authority Jordan Zarqa. Non-Revenue Water (percent). Continuity of Supply time; hours per week. Restructured and rehabilitated primary and secondary pipelines (kilometers).
|  | Restructured and rehabilitated tertiary pipelines (kilometers) | Restructured and rehabilitated tertiary pipelines (kilometers) | Restructured and rehabilitated tertiary pipelines (kilometers) | Restructured and rehabilitated tertiary pipelines (kilometers) | Restructured and rehabilitated tertiary pipelines (kilometers).
|  | Value disbursed of water construction contracts—Infrastructure Activity and Water Smart Homes Activity | Value disbursed of water construction contracts—Infrastructure Activity and Water Smart Homes Activity | Value disbursed of water construction contracts—Infrastructure Activity and Water Smart Homes Activity | Value disbursed of water construction contracts—Infrastructure Activity and Water Smart Homes Activity | Value disbursed of water construction contracts—Water Network Project.
|  | National Aid Fund households with improved water and wastewater network | National Aid Fund households with improved water and wastewater network | National Aid Fund households with improved water and wastewater network | National Aid Fund households with improved water and wastewater network | National Aid Fund households with improved water and wastewater network.
|  | National Aid Fund households connected to the wastewater network as a result of the Water Smart Homes Activity | National Aid Fund households connected to the wastewater network as a result of the Water Smart Homes Activity | National Aid Fund households connected to the wastewater network as a result of the Water Smart Homes Activity | National Aid Fund households connected to the wastewater network as a result of the Water Smart Homes Activity | National Aid Fund households connected to the wastewater network as a result of the Water Smart Homes Activity.
Lesotho | Health Sector Project Objectives: Increase access to life-extending anti-retroviral treatment and essential health services by providing a sustainable delivery platform | Deliveries conducted in health centers (percent) People with HIV still alive 12 months after initiation of treatment (percent) Tuberculosis notifications (per 100,000 population) Health centers equipped (percent) Physical completion of health center facilities (percent) | Compact closed | Compact closed | Compact closed | Compact closed.
|  | Physical completion of Outpatient Departments (percent)
|  | Physical completion of the Botsabelo facilities (percent)
| Private Sector Development Project Objectives: Stimulate investment by improving access to credit, reducing transaction costs and increasing the participation of women in the economy | Debit/smart cards issued Bonds registered Change in time for property transactions (percent) Urban land parcels regularized and registered Stakeholders trained Time required to resolve commercial disputes (days) | Compact closed | Compact closed | Compact closed | Compact closed.
|  | Cases filed at the commercial court
|  | Women holding titles to land
|  | People trained
| Water Sector Project Objectives: Improve the water supply for industrial and domestic needs, and enhance rural livelihoods through improved watershed management | Physical completion of Metolong water treatment works contract (percent) Households with provisions to connect to water networks Non-revenue water (percent) Physical completion of Urban Water supply works contracts (percent) | Compact closed | Compact closed | Compact closed | Compact closed.
|  | Ventilated improved pit latrines built
|  | Water points constructed
Malawi | Natural Resource Management Project Objectives: Increase efficiency of hydropower generation | Value of signed weed and sediment management activity contracts Distribution of invasive aquatic species (cubic kilometers) | Value of signed weed and sediment management activity contracts Distribution of invasive aquatic species (cubic kilometers) | Value of signed weed and sediment management activity contracts Distribution of invasive aquatic species (cubic kilometers) | Value of signed weed and sediment management activity contracts Distribution of invasive aquatic species (cubic kilometers) | Value of signed weed and sediment management activity contracts.
|  | Amount of weed harvested at Liwonde barrage (metric tons) | Amount of weed harvested at Liwonde barrage (metric tons) | Amount of weed harvested at Liwonde barrage (metric tons) | Amount of weed harvested at Liwonde barrage (metric tons) |
|  |  |  |  |  | Grant agreements in place with civil society and private sector service providers.
|  |  |  |  |  | Value of signed Environmental and Natural Resource Management & Social and Gender Assessment project contracts.
| Power Project Objectives: Improve the availability, reliability and quality of the power supply by increasing the throughput capacity and stability of the national electricity grid | Percent disbursed of feasibility and design contracts Average duration of outages/interruptions (hours) Average frequency of forced outages/Interruptions (ratio) | Percent disbursed of feasibility and design contracts Average duration of outages/interruptions (hours) Average frequency of forced outages/Interruptions (ratio) | Percent disbursed of feasibility and design contracts Average duration of outages/interruptions (hours) Average frequency of forced outages/Interruptions (ratio) | Percent disbursed of feasibility and design contracts Average duration of outages/interruptions (hours) Average frequency of forced outages/Interruptions (ratio) | Percent disbursed of feasibility and design contracts.
|  | Average frequency of forced outages/Interruptions (ratio) | Average frequency of forced outages/Interruptions (ratio) | Average frequency of forced outages/Interruptions (ratio)
|  |  |  |  |  | Value of signed power infrastructure construction contracts.
| Power Sector Reform Project Objectives: Create an enabling environment for future expansion by strengthening sector institutions and enhancing regulation and governance of the sector | Cost recovery ratio—operating expenses (percent) Debt- equity ratio Average creditor days | Cost recovery ratio—operating expenses (percent) Debt- equity ratio Average collections period (days) | Cost recovery ratio—operating expenses (percent) Debt- equity ratio Average collections period (days) | Cost recovery ratio—operating expenses (percent) Debt- equity ratio Average collections period (days)
|  |  |  |  |  | Electricity Supply Corporation of Malawi Maintenance Expenditures ratio to planned maintenance budget.
|  |  |  |  |  | Bad Debt.
|  |  |  |  |  | Approved tariff levels and schedules (actual) (U.S. cents/kilowatt hour).
|  | Tariff levels and schedules (U.S. cents/kilowatt hour) | Tariff levels and schedules (U.S. cents/kilowatt hour) | Tariff levels and schedules (U.S. cents/kilowatt hour) | Tariff levels and schedules (U.S. cents/kilowatt hour)
Moldova | Road Rehabilitation Project Objectives: Enhance transportation conditions | Reduced cost for road users Average annual daily traffic Road maintenance expenditure | Reduced cost for road users Average annual daily traffic Road maintenance expenditure | Reduced cost for road users Average annual daily traffic Road maintenance expenditure | Reduced cost for road users Average annual daily traffic Road maintenance expenditure | Reduced cost for road users. Average annual daily traffic. Road maintenance expenditure.
|  | Kilometers of roads completed | Kilometers of roads completed | Kilometers of roads completed | Kilometers of roads completed | Kilometers of roads completed.
|  | Percent of contracted roads works disbursed | Percent of contracted roads works disbursed | Percent of contracted roads works disbursed | Percent of contracted roads works disbursed | Percent of contracted roads works disbursed.
|  | Road safety training for children (number of children) | Road safety training for children (number of children) | Road safety training for children (number of children) | Road safety training for children (number of children) | Road safety training for children (number of children).
|  | Date Resettlement Action Plan completed | Date Resettlement Action Plan completed | Date Resettlement Action Plan completed | Date Resettlement Action Plan completed | Date Resettlement Action Plan completed.
|  | Trafficking in persons training participants | Trafficking in persons training participants | Trafficking in persons training participants | Trafficking in persons training participants | Trafficking in persons training participants.
|  |  |  |  |  | Roughness (meters per kilometer).
|  |  |  |  |  | Temporary employment generated in road construction (number employed).
|  | Hectares under improved or new irrigation | Hectares under improved or new irrigation | Hectares under improved or new irrigation | Hectares under improved or new irrigation | Hectares under improved or new irrigation.
|  | Centralized irrigation systems rehabilitated | Centralized irrigation systems rehabilitated | Centralized irrigation systems rehabilitated | Centralized irrigation systems rehabilitated | Centralized irrigation systems rehabilitated.
|  | Percent disbursed of irrigation construction contracts | Percent disbursed of irrigation construction contracts | Percent disbursed of irrigation construction contracts | Percent disbursed of irrigation construction contracts | Percent disbursed of irrigation construction contracts.
|  | Management transfer agreements signed | Management transfer agreements signed | Management transfer agreements signed | Management transfer agreements signed | Management transfer agreements signed.
|  | New high value agriculture infrastructure in place (metric tons) | New high value agriculture infrastructure in place (metric tons) | New high value agriculture infrastructure in place (metric tons) | New high value agriculture infrastructure in place (metric tons) | New high value agriculture infrastructure in place (metric tons).
|  | Loans past due | Loans past due | Loans past due | Loans past due | Loans past due.
|  | Value of agricultural and rural loans | Value of agricultural and rural loans | Value of agricultural and rural loans | Value of agricultural and rural loans | Value of agricultural and rural loans.
|  | Loan borrowers | Loan borrowers | Loan borrowers | Loan borrowers | Loan borrowers.
|  | Loan borrowers (female) | Loan borrowers (female) | Loan borrowers (female) | Loan borrowers (female) | Loan borrowers (female).
|  | Value of sales facilitated | Value of sales facilitated | Value of sales facilitated | Value of sales facilitated | Value of sales facilitated.
|  | Farmers who have applied improved practices as a result of training | Farmers who have applied improved practices as a result of training | Farmers who have applied improved practices as a result of training | Farmers who have applied improved practices as a result of training | Farmers who have applied improved practices as a result of training.
|  | Farmers trained | Farmers trained | Farmers trained | Farmers trained | Farmers trained.
|  | Farmers trained (female) | Farmers trained (female) | Farmers trained (female) | Farmers trained (female) | Farmers trained (female).
|  | Enterprises assisted | Enterprises assisted | Enterprises assisted | Enterprises assisted | Enterprises assisted.
|  | Enterprises assisted (female) | Enterprises assisted (female) | Enterprises assisted (female) | Enterprises assisted (female) | Enterprises assisted (female).
|  | Water user associations achieving financial sustainability | Water user associations achieving financial sustainability | Water user associations achieving financial sustainability | Water user associations achieving financial sustainability
| Transition To High Value Agriculture Project Objectives: Increase incomes in the agricultural sector; Create models for transition to high value agriculture (HVA) in CIS areas and an enabling environment (legal, financial and market) for replication. | Value of signed irrigation construction contracts Date Revised Legal Water Management Framework passed Water user associations with active and representative governance Water user associations with gender-balanced management and governance | Value of signed irrigation construction contracts Date Revised Legal Water Management Framework passed Water user associations with active and representative governance Water user associations with gender-balanced management and governance | Value of signed irrigation construction contracts Date Revised Legal Water Management Framework passed Water user associations with active and representative governance Water user associations with gender-balanced management and governance | Value of signed irrigation construction contracts Date Revised Legal Water Management Framework passed Water user associations with active and representative governance Water user associations with gender-balanced management and governance | Value of signed irrigation construction contracts. Date Revised Legal Water Management Framework passed. Water user associations with active and representative governance. Water user associations with gender-balanced management and governance.
|  | Enterprises that have applied improved techniques | Enterprises that have applied improved techniques | Enterprises that have applied improved techniques | Enterprises that have applied improved techniques | Enterprises that have applied improved techniques.
|  | Percent disbursed of irrigation feasibility and design contracts | Percent disbursed of irrigation feasibility and design contracts | Percent disbursed of irrigation feasibility and design contracts | Percent disbursed of irrigation feasibility and design contracts | Percent disbursed of irrigation feasibility and design contracts.
|  | Value of signed irrigation feasibility and design contracts | Value of signed irrigation feasibility and design contracts | Value of signed irrigation feasibility and design contracts | Value of signed irrigation feasibility and design contracts | Value of signed irrigation feasibility and design contracts.
|  |  |  |  |  | Temporary employment generated in irrigation.
|  |  |  |  |  | The Central Phytosanitary Lab is certified.
Mongolia | Energy and Environmental Project Objectives: Increased wealth and productivity through greater fuel use efficiency and decreasing health costs from air pollution in Ulaanbaatar | Heat-only boilers sites upgraded Subsidized stoves sold. Power dispatched from substation (millions of kilowatt hours). | Compact closed | Compact closed | Compact closed | Compact closed.
| Health Project Objectives: Reduce the risk of premature death and disability from NCDs and traffic injuries | Amount of civil society grants (U.S. dollars) Cervical cancer cases detected early (percent) Screening for hypertension (percent) School teachers trained Health staff trained | Compact closed | Compact closed | Compact closed | Compact closed.
|  | Primary healthcare facilities with non-communicable disease services (percent) |  |  |  |
| Property Rights Project Objectives: Increase the security and capitalization of land assets held by lower-income Mongolians, and increase peri-urban herder productivity and incomes | Wells completed
|  | Stakeholders trained Leases awarded Project herder groups limiting their livestock population to the carrying capacity of their leases on farms in 3 central aimags (Ulaanbaatar, Darkhan and Erdenet) (percent) | Compact closed | Compact closed | Compact closed | Compact closed.
|  | Official cost prescribed for property transactions (first-time) (U.S. dollars) |  |  |  |
|  | Household with land rights formalized |  |  |  |
|  | Legal and regulatory reforms adopted |  |  |  |
|  | Stakeholders trained |  |  |  |
| Roads Project Objectives: More efficient transport for trade and access to services | Kilometers of roads completed Kilometers of roads under design | Compact closed | Compact closed | Compact closed | Compact closed.
|  | Percent disbursed of road construction contracts |  |  |  |
| Technical Vocational Education Project Objectives: Increase employment and income among unemployed and underemployed Mongolians | Students participating in MCC-supported education activities Public-private partnership funding contributed to Technical Vocational Education and Training (TVET) schools (percent) | Compact closed | Compact closed | Compact closed | Compact closed.
|  | Educational facilities constructed or rehabilitated |  |  |  |
|  | Instructors trained |  |  |  |
Morocco | Artisan and Fez Medina Project Objectives: Increase revenue from cultural and artisan activities, and improve educational and professional qualifications of compact beneficiaries | Total receiving literacy training Graduates of MCC-supported functional literacy program (female) Graduates of MCC-supported functional literacy program (male) Total receiving professional training | Compact closed | Compact closed | Compact closed | Compact closed.
|  | Females receiving professional training |  |  |  |
|  | Graduates of vocational training program (residential, apprenticeship and continuing education) |  |  |  |
|  | Drop-out rates of participants of residential and apprenticeship programs (percent) |  |  |  |
|  | Potters trained
|  | MCC-subsidized gas kilns bought by artisans |  |  |  |
|  | Adoption rate of improved production practices promoted by the project (percent) |  |  |  |
|  | Tourist circuits improved or created |  |  |  |
|  | Small and medium enterprises (SMEs) that append the label on their products
|  | SMEs participating in promotion events |  |  |  |
|  | Sites constructed or rehabilitated (4 foundouks, Place Lalla Ydouna, Ain Nokbi)
|  | Beneficiaries of Ain Nokbi construction and artisan resettlement program |  |  |  |
| Enterprise Support Project Objectives: Improve the outcomes of the Moukawalati and National Initiative for Human Development programs by increasing the viability of young enterprises created through these programs | Reduction in SME mortality (treatment firms with respect to control firms) one year after support completion (percent) Days of individual coaching Beneficiaries trained | Compact closed | Compact closed | Compact closed | Compact closed.
| Financial Services Project Objectives: Improve micro-enterprise services and remove most severe constraints to the development of the microfinance sector based on market principals | Value of loan agreements between microcredit associations and Jaida (millions of Moroccan dirhams) Microfinance institutions' portfolio at risk at 30 days (percent) Value of loans granted through mobile branches (U.S. dollars) | Compact closed | Compact closed | Compact closed | Compact closed.
|  | Clients reached through mobile branches |  |  |  |
|  | Value of loan disbursements to Jaida (U.S. dollars) |  |  |  |
| Fruit Tree Productivity Project Objectives: Stimulate growth in the agricultural sector and reduce the volatility of agricultural production by restructuring farming from grains towards fruit tree cultivation | Area planted and delivered to farmers (hectares) Area in expansion perimeters for which water and soil conservation measures have been implemented (hectares) Cumulative area of irrigated perimeters rehabilitated (hectares) | Compact closed | Compact closed | Compact closed | Compact closed.
|  | Yield of rehabilitated olive trees in irrigated areas (metric tons per hectare) |  |  |  |
|  | Average agricultural revenue per farm in oasis areas (U.S. dollars) |  |  |  |
|  | Hectares under improved irrigation |  |  |  |
|  | Yield of rehabilitated date palms in oasis areas (metric tons per hectare) |  |  |  |
|  | In vitro seedlings successfully planted
|  | Farmers trained (in all areas targeted by the project) |  |  |  |
|  | Catalyst Fund proposals approved |  |  |  |
|  | Disbursements under the catalyst fund (U.S. dollars) |  |  |  |
| Small-Scale Fisheries Project Objectives: Supported by modern landing-site infrastructure, equipment and storage facilities, develop value-chain activities related to the fishing industry encouraging greater access to national and international markets, while improving the fish quality and preserving resources | Boats benefitting from landing sites and ports Artisan fishers who received a training certificate Average price of fish at auction markets (Moroccan dirhams per kilogram) Work days created for construction jobs in landing sites, ports, and wholesale market sites Active mobile fish vendors trained and equipped by the project | Compact closed | Compact closed | Compact closed | Compact closed.
|  | Net annual income of mobile fish vendors (U.S. dollars) |  |  |  |
Mozambique | Farmer Income Support Project Objectives: To protect and restore income from coconuts and their derivatives and expand farmers' productive capacity through income diversification. | Survival rate of coconut seedlings (percent) Coconut seedlings planted Farmers trained in surveillance and pest and disease control for coconuts Farmers trained in planting and post planting management of coconuts | Compact closed | Compact closed | Compact closed | Compact closed.
|  | Hectares of alternative crops under production |  |  |  |
|  | Farmers trained in alternative crop production and productivity enhancing strategies |  |  |  |
|  | Farmers using alternative crop production and productivity enhancing strategies (percent) |  |  |  |
|  | Businesses receiving Business Development Fund grants
| Land Tenure Project Objectives: Establish efficient and secure land access for households, communities, and investors | People trained (paralegal courses at Legal and Judicial Training Centre, general training at National Directorate for Land and Forestry, etc.) Land administration offices established or upgraded Land tenure regularization (LTR) urban parcels mapped LTR land use property rights certificates (DUATs) delivered to the urban beneficiaries | Compact closed | Compact closed | Compact closed | Compact closed.
|  | LTR rural hectares mapped |  |  |  |
|  | LTR DUATs delivered to the rural beneficiaries |  |  |  |
|  | Community Land Fund rural hectares formalized |  |  |  |
|  | Community Land Fund communities land areas mapped |  |  |  |
| Rehabilitation/Construction of Roads Project Objectives: To increase access to productive resources and markets while reducing associated transport costs | Percent of roads works contracts disbursed Kilometers of roads issued take-over certificates | Compact closed | Compact closed | Compact closed | Compact closed.
| Water Supply and Sanitation Project Objectives: To increase access to reliable sources of potable water supply in urban and rural areas and improved sanitation in urban and peri-urban areas | Value of municipal sanitation and drainage systems construction contracts signed Amount disbursed for municipal sanitation and drainage construction contracts Value of contracts signed for construction of water systems | Compact closed | Compact closed | Compact closed | Compact closed.
|  | Percent of revised construction contract disbursed for water systems |  |  |  |
|  | Rural water points constructed |  |  |  |
|  | Percent of rural population of the six intervention districts with access to improved water sources |  |  |  |
|  | Amount disbursed for rural water points construction contracts (U.S. dollars) |  |  |  |
|  | Persons trained in hygiene and sanitary best practices |  |  |  |
Namibia | Agriculture Project Objectives: Enhance the health and marketing efficiency of livestock in the Northern Communal Areas of Namibia and to increase income from indigenous natural products accruing to the poor nationwide | Participating households registered in the Community-Based Rangeland and Livestock Management sub-activity Grazing areas with documented combined management plans Parcels corrected or incorporated in land system | Participating households registered in the Community-Based Rangeland and Livestock Management sub-activity Grazing areas with documented combined management plans Parcels corrected or incorporated in land system | Participating households registered in the Community-Based Rangeland and Livestock Management sub-activity Grazing areas with documented combined management plans Parcels corrected or incorporated in land system | Participating households registered in the Community-Based Rangeland and Livestock Management sub-activity Grazing areas with documented combined management plans Parcels corrected or incorporated in land system | Participating households registered in the Community-Based Rangeland and Livestock Management sub-activity. Grazing areas with documented combined management plans. Parcels corrected or incorporated in land system.
|  | Stakeholders trained | Stakeholders trained | Stakeholders trained | Stakeholders trained | Stakeholders trained.
|  | Cattle tagged with RFID tags | Cattle tagged with RFID tags | Cattle tagged with RFID tags | Cattle tagged with RFID tags | Cattle tagged with RFID tags.
|  | Value of grant agreements signed under the Livestock Efficiency Fund | Value of grant agreements signed under the Livestock Efficiency Fund | Value of grant agreements signed under the Livestock Efficiency Fund | Value of grant agreements signed under the Livestock Efficiency Fund | Value of grant agreements signed under the Livestock Efficiency Fund.
|  | Farmers trained | Farmers trained | Farmers trained | Farmers trained | Farmers trained.
|  | Payment to producers from Indigenous Natural Products sales | Payment to producers from Indigenous Natural Products sales | Payment to producers from Indigenous Natural Products sales | Payment to producers from Indigenous Natural Products sales | Payment to producers from Indigenous Natural Products sales.
|  | Grazing areas doing combined herding | Grazing areas doing combined herding | Grazing areas doing combined herding | Grazing areas doing combined herding | Grazing areas doing combined herding.
|  | Legal and regulatory reforms adopted | Legal and regulatory reforms adopted | Legal and regulatory reforms adopted | Legal and regulatory reforms adopted | Legal and regulatory reforms adopted.
|  | New state veterinary offices operational | New state veterinary offices operational | New state veterinary offices operational | New state veterinary offices operational | New state veterinary offices operational.
| Education Project Objectives: Improve the quality of the workforce in Namibia by enhancing the equity and effectiveness of basic vocational, and tertiary education and of technical skills | Learners (any level) participating in the 47 schools sub-activity Educational facilities constructed, rehabilitated, equipped in the 47 schools sub‐activity Textbooks delivered | Learners (any level) participating in the 47 schools sub-activity Educational facilities constructed, rehabilitated, equipped in the 47 schools sub‐activity Textbooks delivered | Learners (any level) participating in the 47 schools sub-activity Educational facilities constructed, rehabilitated, equipped in the 47 schools sub‐activity Textbooks delivered | Learners (any level) participating in the 47 schools sub-activity Educational facilities constructed, rehabilitated, equipped in the 47 schools sub‐activity Textbooks delivered | Learners (any level) participating in the 47 schools sub-activity. Educational facilities constructed, rehabilitated, equipped in the 47 schools sub‐activity. Textbooks delivered.
|  | Educators trained to be textbook management trainers | Educators trained to be textbook management trainers | Educators trained to be textbook management trainers | Educators trained to be textbook management trainers | Educators trained to be textbook management trainers.
|  | Educators trained to be textbook utilization trainers | Educators trained to be textbook utilization trainers | Educators trained to be textbook utilization trainers | Educators trained to be textbook utilization trainers | Educators trained to be textbook utilization trainers.
|  | Visits to Namibia accountable entity assisted regional study and resource centers | Visits to Namibia accountable entity assisted regional study and resource centers | Visits to Namibia accountable entity assisted regional study and resource centers | Visits to Namibia accountable entity assisted regional study and resource centers | Visits to Namibia accountable entity assisted regional study and resource centers.
|  | Compliance rate for National Training Fund levy | Compliance rate for National Training Fund levy | Compliance rate for National Training Fund levy | Compliance rate for National Training Fund levy | Compliance rate for National Training Fund levy.
|  | Graduates from MCC-supported education activities | Graduates from MCC-supported education activities | Graduates from MCC-supported education activities | Graduates from MCC-supported education activities | Graduates from MCC-supported education activities.
|  | Percent of schools with positions filled to teach information, communication and technology literacy | Percent of schools with positions filled to teach information, communication and technology literacy | Percent of schools with positions filled to teach information, communication and technology literacy | Percent of schools with positions filled to teach information, communication and technology literacy | Percent of schools with positions filled to teach information, communication and technology literacy.
|  | Regional study and resource centers opened to visitors | Regional study and resource centers opened to visitors | Regional study and resource centers opened to visitors | Regional study and resource centers opened to visitors | Regional study and resource centers opened to visitors.
|  | Percent of positions at regional study and resource centers staffed | Percent of positions at regional study and resource centers staffed | Percent of positions at regional study and resource centers staffed | Percent of positions at regional study and resource centers staffed | Percent of positions at regional study and resource centers staffed.
|  | Community skills development centers and arts and crafts centers completed | Community skills development centers and arts and crafts centers completed | Community skills development centers and arts and crafts centers completed | Community skills development centers and arts and crafts centers completed | Community skills development centers and arts and crafts centers completed.
|  | Modified National Student Financial Assistance Fund management information system completed | Modified National Student Financial Assistance Fund management information system completed | Modified National Student Financial Assistance Fund management information system completed | Modified National Student Financial Assistance Fund management information system completed | Modified National Student Financial Assistance Fund management information system completed.
| Tourism Project Objectives: Grow the Namibian tourism industry with a focus on increasing income to households in communal conservancies | Tourists to Etosha National Park Galton Gate Plan implemented Unique visits on Namibia Tourism Board website Leisure tourist arrivals North American tourism businesses (travel agencies and tour operators) that offer Namibian tours or tour packages | Tourists to Etosha National Park Galton Gate Plan implemented Unique visits on Namibia Tourism Board website Leisure tourist arrivals North American tourism businesses (travel agencies and tour operators) that offer Namibian tours or tour packages | Tourists to Etosha National Park Galton Gate Plan implemented Unique visits on Namibia Tourism Board website Leisure tourist arrivals North American tourism businesses (travel agencies and tour operators) that offer Namibian tours or tour packages | Tourists to Etosha National Park Galton Gate Plan implemented Unique visits on Namibia Tourism Board website Leisure tourist arrivals North American tourism businesses (travel agencies and tour operators) that offer Namibian tours or tour packages | Tourists to Etosha National Park Galton Gate Plan implemented. Unique visits on Namibia Tourism Board website. Leisure tourist arrivals. North American tourism businesses (travel agencies and tour operators) that offer Namibian tours or tour packages.
|  | Annual gross revenue to conservancies receiving assistance from Namibia accountable entity (Namibian dollars) | Annual gross revenue to conservancies receiving assistance from Namibia accountable entity (Namibian dollars) | Annual gross revenue to conservancies receiving assistance from Namibia accountable entity (Namibian dollars) | Annual gross revenue to conservancies receiving assistance from Namibia accountable entity (Namibian dollars) | Annual gross revenue to conservancies receiving assistance from Namibia accountable entity (Namibian dollars).
|  | Amount of new private sector investment secured by conservancies assisted by Namibia accountable entity (Namibian dollars) | Amount of new private sector investment secured by conservancies assisted by Namibia accountable entity (Namibian dollars) | Amount of new private sector investment secured by conservancies assisted by Namibia accountable entity (Namibian dollars) | Amount of new private sector investment secured by conservancies assisted by Namibia accountable entity (Namibian dollars) | Amount of new private sector investment secured by conservancies assisted by Namibia accountable entity (Namibian dollars).
|  | Value of grants issued by the Conservancy Development Support Grant Fund (Namibian dollars) | Value of grants issued by the Conservancy Development Support Grant Fund (Namibian dollars) | Value of grants issued by the Conservancy Development Support Grant Fund (Namibian dollars) | Value of grants issued by the Conservancy Development Support Grant Fund (Namibian dollars) | Value of grants issued by the Conservancy Development Support Grant Fund (Namibian dollars).
|  | Galton Gate construction: schedule performance index | Galton Gate construction: schedule performance index | Galton Gate construction: schedule performance index | Galton Gate construction: schedule performance index | Galton Gate construction: schedule performance index.
|  | Ombika Gate construction: schedule performance index | Ombika Gate construction: schedule performance index | Ombika Gate construction: schedule performance index | Ombika Gate construction: schedule performance index | Ombika Gate construction: schedule performance index.
Philippines | Community Development Grants Project | New jobs in tourism created in conservancies | New jobs in tourism created in conservancies | New jobs in tourism created in conservancies | New jobs in tourism created in conservancies | New jobs in tourism created in conservancies.
|  | Completed KALAHI-CIDSS (KC) sub-projects implemented in compliance with technical plans and within schedule and budget | Completed KALAHI-CIDSS (KC) sub-projects implemented in compliance with technical plans and within schedule and budget | Completed KALAHI-CIDSS (KC) sub-projects implemented in compliance with technical plans and within schedule and budget |  |
|  | Communities and/or barangays with KC sub-projects that have a sustainability evaluation rating of satisfactory or better (percent) | Communities and/or barangays with KC sub-projects that have a sustainability evaluation rating of satisfactory or better (percent) | Communities and/or barangays with KC sub-projects that have a sustainability evaluation rating of satisfactory or better (percent) | Communities and/or barangays with KC sub-projects that have a sustainability evaluation rating of satisfactory or better (percent) |
| KALAHI-CIDSS Project Objectives: The KALAHI-CIDSS (KC) Project expects to improve the responsiveness of local governments to community needs, encourage communities to engage in development activities, and deliver benefits to barangay residents through the individual sub-projects | Municipalities that provide their KC local counterpart contributions (LCC) based on their LCC delivery plan (percent) | Municipalities that provide their KC local counterpart contributions(LCC) based on their LCC delivery plan (percent) | Municipalities that provide their KC local counterpart contributions (LCC) based on their LCC delivery plan (percent) | Percentage of municipalities that provide their KC local counterpart contributions (LCC) based on their LCC delivery plan | Percentage of municipalities that provide their KC local counterpart contributions (LCC) based on their LCC delivery plan.
|  |  |  |  | Sub-projects completed with 100 percent physical accomplishment | Sub-projects completed with 100 percent physical accomplishment.
|  |  |  |  |  | Barangays that have completed all the trainings during the social preparation stage.
|  |  |  |  |  | Barangays that have completed Thematic Environment Management System TEMS Training.
|  |  |  |  |  | Barangays that have completed gender-related training.
| Roads Project Objectives: The Secondary National Roads Development Project expects to lower vehicle operating costs and save the time of those Filipinos living near the roads | Kilometers of road sections completed Value of road construction contracts signed Value of road construction contracts signed | Kilometers of road sections completed Value of road construction contracts signed Value of road construction contracts signed | Kilometers of road sections completed Value of road construction contracts signed Value of road construction contracts signed | Kilometers of road sections completed Value of road construction contracts signed Value of road construction contracts signed | Value of road construction contracts disbursed.
|  | Project-affected parties resettled | Project-affected parties resettled | Project-affected parties resettled | Project-affected parties resettled | Project-affected parties resettled.
|  |  |  |  |  | Kilometers of roads with vehicle-passable (lanes).
|  |  |  |  |  | Project-affected entities compensated (female).
| Revenue Administration Reform Project Objectives: The Revenue Administration Reform Project expects to increase tax revenues over time and support the Department of Finance's initiatives to detect and deter corruption within its revenue agencies | Successful case resolutions | Successful case resolutions | Successful case resolutions | Successful case resolutions | Successful case resolutions.
|  | Personnel charged with graft, corruption, lifestyle and/or criminal cases | Personnel charged with graft, corruption, lifestyle and/or criminal cases | Personnel charged with graft, corruption, lifestyle and/or criminal cases | Personnel charged with graft, corruption, lifestyle and/or criminal cases | Personnel charged with graft, corruption, lifestyle and/or criminal cases.
|  | Revenue District Offices using electronic tax information system (percent) | Revenue District Offices using electronic tax information system (percent) | Revenue District Offices using electronic tax information system (percent) | Revenue District Offices using electronic tax information system (percent) | Revenue District Offices using electronic tax information system (percent).
|  | Audit cases performed using automated audit tools (percent) | Audit cases performed using automated audit tools (percent) | Audit cases performed using automated audit tools (percent) | Percentage of audit cases performed using automated audit tools | Percentage of audit cases performed using automated audit tools.
|  | Average time taken to complete investigation (days) | Average time taken to complete investigation (days) | Average time taken to complete investigation (days) | Average time taken to complete investigation (days) |
|  | Audits | Audits | Audits | Percentage of automatically-generated audits |
|  | Audits completed in compliance with prescribed period of 120 days (percent) | Audits completed in compliance with prescribed period of 120 days (percent) | Audits completed in compliance with prescribed period of 120 days (percent) |  |
|  |  |  |  | Percentage of audits completed in compliance with prescribed period of 180 days |
|  |  |  |  |  | Revenue collection per audit (millions of Philippine pesos).
|  |  |  |  |  | Revenue from new and existing business registrants.
Senegal | Irrigation Objectives: Improve productivity of the agricultural sector | Tons of irrigated rice production Hectares under production | Tons of irrigated rice production Hectares under production | Rice paddy production (tons) Hectares under production | Rice paddy production (tons) Hectares under production across cropping seasons | Rice paddy production (tons). Hectares under production across cropping season.
|  | Percent of disbursement on the construction contracts signed for the irrigation infrastructures in the Delta and the Ngallenka | Percent of disbursement on the construction contracts signed for the irrigation infrastructures in the Delta and the Ngallenka | Percent disbursed of irrigation construction contracts | Percent disbursed of irrigation construction contracts | Percent disbursed of irrigation construction contracts.
|  | New conflicts resolved (percent) | New conflicts resolved (percent) | Conflicts successfully mediated | Conflicts successfully mediated | Conflicts successfully mediated.
|  | People trained on land security tools | People trained on land security tools | Participants in the training modules on land tenure security tools | Participants in the training modules on land tenure security tools | Participants in the training modules on land tenure security tools.
|  | Women trained on land security tools | Women trained on land security tools | Participants in the training modules on land tenure security tools (female) | Participants in the training modules on land tenure security tools (female) | Participants in the training modules on land tenure security tools (female).
|  | Cropping intensity (hectares under production per year/cultivable hectares) (Delta Activity) | Cropping intensity (hectares under production per year/cultivable hectares) (Delta Activity) | Cropping intensity (hectares under production per year/cultivable hectares) (Delta Activity) | Cropping intensity (hectares under production per year/cultivable hectares) (Delta Activity) | Cropping intensity (hectares under production per year/cultivable hectares) (Delta Activity).
|  | Cropping intensity (hectares under production per year/cultivable hectares) (Podor Activity) | Cropping intensity (hectares under production per year/cultivable hectares) (Podor Activity) | Cropping intensity (hectares under production per year/cultivable hectares) (Podor Activity) | Cropping intensity (hectares under production per year/cultivable hectares) (Podor Activity) | Cropping intensity (hectares under production per year/cultivable hectares) (Podor Activity).
|  | Value of the construction contracts signed for the irrigation infrastructure in the Delta | Value of the construction contracts signed for the irrigation infrastructure in the Delta | Value of the construction contracts signed for the irrigation infrastructure in the Delta | Value of the construction contracts signed for the irrigation infrastructure in the Delta | Value of the construction contracts signed for the irrigation infrastructure in the Delta.
|  | Value of the construction contracts signed for the irrigation infrastructure in Ngallenka | Value of the construction contracts signed for the irrigation infrastructure in Ngallenka | Value of the construction contracts signed for the irrigation infrastructure in Ngallenka | Value of the construction contracts signed for the irrigation infrastructure in Ngallenka | Value of the construction contracts signed for the irrigation infrastructure in Ngallenka.
|  | Potentially irrigable lands area (Delta and Ngallenka) (hectares) | Potentially irrigable lands area (Delta and Ngallenka) (hectares) |  |  |
|  |  |  | Total area with improved irrigation infrastructure (Delta and Ngallenka) (hectares) | Total area with improved irrigation infrastructure (Delta and Ngallenka) (hectares) | Total area with improved irrigation infrastructure (Delta and Ngallenka) (hectares).
|  |  |  |  |  | Temporary employment generated in irrigation (number employed).
|  |  |  |  |  | Hectares formalized (having a land allocation title and registered).
| Roads Project Objectives: Expand Access to Markets and Services | Percent of disbursements for the contract signed for the constructions of the National Road (RN) #2 and National Road (RN) #6 | Percent of disbursements for the contract signed for the constructions of the National Road (RN) #2 and National Road (RN) #6 | Percent disbursed of road construction contracts | Percent disbursed of road construction contracts | Percent disbursed of road construction contracts.
|  | Kilometers of roads rehabilitated on the RN#2 | Kilometers of roads rehabilitated on the RN#2 | Kilometers of roads rehabilitated on the RN#2 | Kilometers of roads rehabilitated on the RN#2 | Kilometers of roads rehabilitated on the RN#2.
|  | International Roughness Index on the RN#2 | International Roughness Index on the RN#2 | Roughness (RN#2) | Roughness (RN#2) | Roughness (RN#2).
|  | International Roughness Index on the RN#6 | International Roughness Index on the RN#6 | Roughness (RN#6) | Roughness (RN#6) | Roughness (RN#6).
|  | Value of contracts signed for the construction of the RN#2 and the RN#6 | Value of contracts signed for the construction of the RN#2 and the RN#6 | Value of signed road construction contracts | Value of signed road construction contracts | Value of signed road construction contracts.
|  | Kilometers of roads rehabilitated on the RN#6 | Kilometers of roads rehabilitated on the RN#6 | Kilometers of rehabilitated roads on RN#6 | Kilometers of rehabilitated roads on RN#6 | Kilometers of rehabilitated roads on RN#6.
|  | Kilometers of roads covered by the contract for the studies, the supervision and management of the RN#2 | Kilometers of roads covered by the contract for the studies, the supervision and management of the RN#2 | Kilometers of roads under design of the RN#2 | Kilometers of roads under design of the RN#2 |
|  | Kilometers of roads covered by the contract for the studies, the supervision and management of the RN#6 | Kilometers of roads covered by the contract for the studies, the supervision and management of the RN#6 | Kilometers of roads under design of the RN#6 | Kilometers of roads under design of the RN#6 |
|  |  |  |  |  | Temporary employment generated in road construction (number employed).
Tanzania | Energy Sector Project Objectives: Increased value added | Current power customers (Zanzibar Interconnector Activity) | Compact closed | Compact closed | Compact closed | Compact closed.
|  | Transmission and distribution substations capacity (megawatt peak) (Zanzibar Interconnector Activity) |  |  |  |
|  | Technical and non-technical losses (Zanzibar) (percent) |  |  |  |
|  | Kilometers of 132 kilovolt (kv) lines constructed |  |  |  |
|  | Percent disbursed on overhead lines contract |  |  |  |
|  | Current power customers (Malagarsi Hydropower and Kigoma Distribution Activity) |  |  |  |
|  | Capacity of photovoltaic (PV) systems installed (kilowatt peak) |  |  |  |
|  | Current power customers (all six project regions in Mainland) |  |  |  |
|  | Kilometers of 33/11 kV lines constructed |  |  |  |
|  | Transmission and distribution substations capacity (megavolt ampere) (all six project regions in Mainland) |  |  |  |
|  | Technical and non-technical losses (all six project regions in Mainland and Kigoma) (percent) |  |  |  |
|  | Cost recovery ratio |  |  |  |
| Transport Sector Project Objectives: Increased cash crop revenue; Increased aggregate visitor spending | Percent disbursed on construction contracts Surfacing complete: Tunduma-Sumbawanga (percent) | Compact closed | Compact closed | Compact closed | Compact closed.
|  | Surfacing complete: Tanga-Horohoro (percent) |  |  |  |
|  | Surfacing complete: Namtumbo-Songea (percent) |  |  |  |
|  | Surfacing complete: Peramiho-Mbinga (percent) |  |  |  |
|  | Kilometers of roads completed (taken over) (Mainland Roads Activity) |  |  |  |
|  | Pemba: Percent disbursed on construction contract |  |  |  |
|  | Surfacing complete: Pemba (percent) |  |  |  |
|  | Kilometers of roads completed (taken over) (Zanzibar Rural Roads Activity) |  |  |  |
|  | Road maintenance expenditures: Mainland Trunk Roads (percent) |  |  |  |
|  | Road maintenance expenditures: Zanzibar Rural Roads (percent) |  |  |  |
|  | Runway surfacing complete (percent) |  |  |  |
| Water Sector Project Objectives: Increased investment in human and physical capital; Reduced prevalence of water-related diseases | Volume of water produced (millions of liters per day) (Lower Ruvu Plant Expansion Activity) Operations and maintenance cost recovery (percent) (Lower Ruvu Plant Expansion Activity) | Compact closed | Compact closed | Compact closed | Compact closed
|  | Volume of water produced (millions of liters per day) (Morogoro Water Supply Activity) |  |  |  |
|  | Operations and Maintenance Cost Recovery (percent) (Morogoro Water Supply Activity) |  |  |  |
Zambia | Water Supply, Sanitation and Drainage Project Objectives: Increase access to clean water to generate time and cost savings for beneficiaries | Measures pending | Measures pending | Percent disbursed of water and sanitation construction contracts Volume of water produced (cubic meters per day) Proposals received Grantees | Percent disbursed of water and sanitation construction contracts Volume of water produced (cubic meters per day) Proposals received Grantees | Percent disbursed of water and sanitation construction contracts. Volume of water produced (cubic meters per day). Proposals received. Grantees.
|  |  |  | People trained in social and gender integration and social inclusion | People trained in social and gender integration and social inclusion | People trained in social and gender integration and social inclusion.
|  |  |  | People trained in social and gender integration and social inclusion (female) | People trained in social and gender integration and social inclusion (female) | People trained in social and gender integration and social inclusion (female).
|  |  |  | People trained in social and gender integration and social inclusion (male) | People trained in social and gender integration and social inclusion (male) | People trained in social and gender integration and social inclusion (male).
|  |  |  | Meters installed or replaced | Meters installed or replaced | Meters installed or replaced.
|  |  |  | Value of compensation for displaced businesses and households (U.S. dollars) | Value of compensation for displaced businesses and households (U.S. dollars) |
|  |  |  | Value of water, sanitation and drainage construction contracts signed (U. S. dollars) | Value of water, sanitation and drainage construction contracts signed (U. S. dollars) |
|  |  |  | Households and businesses displaced | Households and businesses displaced |
|  |  |  |  |  | People trained in hygiene and sanitary best practices.
|  |  |  |  |  | People trained in hygiene and sanitary best practices (female).
|  |  |  |  |  | People trained in hygiene and sanitary best practices (male).

619(b)—Transfer or Allocation of Funds
United States agency to which funds were transferred or allocated | Amount | Description of program or project
None | None | None.

[FR Doc. 2016-24512 Filed 10-7-16; 8:45 am]

BILLING CODE 9211-03-P